DEPARTMENT OF JUSTICE

Notice of Opportunity To Comment on Proposed Consent Decree Under the Clean Air Act

On April 1, 2021, the Department of Justice lodged a proposed Consent Decree with the United States District Court for the Eastern District of Washington in the lawsuit entitled United States v. Multistar Industries, Inc., Civil Action No. 2:21-cv-130-SMJ.

This Consent Decree settles claims against Multistar Industries, Inc. (“Multistar”) set forth in the Complaint filed contemporaneously with the lodging of the Consent Decree. The complaint includes claims under Section 113 of the Clean Air Act (CAA) for violations of the risk management program requirements of CAA Section 112(r) and Section 113(a)(3) for violations of an administrative compliance order. These violations occurred at Multistar's chemical storage and distribution facility in Othello, Washington.

The Consent Decree resolves these claims by requiring a penalty payment of $135,000 plus the decree establishes a three year stipulated penalty structure wherein Multistar is obligated to submit reports as to its operations and comply with the risk management program requirements of CAA § 112(r)(7) or be subject to stipulated penalties.

This publication of this notice holds opens the period for public comment on the Consent Decree. Comments should be addressed to the Assistant Attorney General, Environment and Natural Resources Division, and should refer to United States v. Multistar Industries, Inc., Civil Action No. 2:21-cv-130-SMJ, D.J. Ref. No. 90-5-2-1-12000/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.50 (25 cents per page reproduction cost) payable to the United States Treasury.

Susan M. Akers,
Assistant Section Chief, Environmental Enforcement Section, Environment and Natural Resources Division.

[FR Doc. 2021-07134 Filed 4-6-21; 8:45 am]

BILLING CODE 4410-15-P